DEPARTMENT OF TRANSPORTATION

Federal Highway Administration

Draft Supplemental Environmental Impact Statement for US 411 Connector, Bartow County, GA

AGENCY: Federal Highway Administration (FHWA), DOT.

ACTION: Notice of availability.

SUMMARY: In compliance with the National Environmental Policy Act of 1969, the FHWA, in cooperation with the Georgia Department of Transportation (GDOT), have jointly prepared a Draft Supplemental Environmental Impact Statement (DSEIS) for proposed transportation improvements in the US 411 Corridor. The project is within Bartow County. The DSEIS identifies various alternatives and the associated environmental impacts of the proposed alternatives. Interested citizens are invited to review the DSEIS and submit comments. Copies of the DSEIS may be obtained by telephoning or writing the contact person listed below under ADDRESSES. Public reading copies of the DSEIS are available at the locations listed under SUPPLEMENTARY INFORMATION.

DATES: A 45-day public review period will begin on October 7, 2005 and conclude on November 21, 2005. Written comments on the alternatives and impacts to be considered must be received by GDOT by November 21, 2005. A public hearing to receive comments on the DSEIS will be held in Cartersville, GA on October 24, 2005.

ADDRESSES: Written comments on the DSEIS should be addressed to Mr. Harvey D. Keepler, State Environmental/Location Engineer, Georgia Department of Transportation, 3993 Aviation Circle, Atlanta, GA 30336-1593. Requests for a copy of the DSEIS may be addressed to Mr. Harvey D. Keepler at the address above. Please see SUPPLEMENTARY INFORMATION section for a listing of the available documents and formats in which they may be obtained. Copies of the Draft EIS are also available for public inspection and review. See SUPPLEMENTARY INFORMATION section for locations.

FOR FURTHER INFORMATION CONTACT: To request copies of the DSEIS or for additional information, contact: Mr. Harvey D. Keepler, State Environmental/Location Engineer, Georgia Department of Transportation, 3993 Aviation Circle, Atlanta, GA 30336-1593.

SUPPLEMENTARY INFORMATION: Hearing Date and Location: Monday, October 24, 2005: Cartersville Civic Center, 435 West main Street, Cartersville, GA (4 p.m.-7 p.m.)

Copies of the DSEIS are available in hard copy format for public inspection at:

Georgia Department of Transportation, Office of Environment/Location, 3993 Aviation Circle, Atlanta, GA 30336-1593.

Georgia Department of Transportation District Six Office, 500 Joe Frank Harris Parkway, Cartersville, GA 30120.

Bartow County Commissioners Office, 135 W Cherokee Ave, Suite 251, Cartersville, GA 30120.

City of Cartersville, City Clerks Office, 10 North Public Square, Cartersville, GA 30120.

City of Rome, City Clerks Office, Rome City Hall, 601 Broad Street, Rome, GA 30162.

Georgia Highlands College, Cartersville Campus, Library, 5441 Highway 20, NE Cartersville, GA 30121.

Bartow County Library, 429 W Main Street, Cartersville, GA 30120.

Background

This DSEIS provides a detailed evaluation of the US 411 Connector project. The project corridor lies within Bartown County, Georgia. This DSEIS includes an examination of the purpose and need, alternatives under consideration, travel demand, affected environment, environmental consequences, and mitigation measures as a result of the improvements under consideration. Five build alternatives, including the No-Action Alternative, are considered for improvements to the US 411 Corridor. FHWA was the lead agency for the preparation of the Draft SEIS.

The FHWA, the GDOT, and other local agencies invite interested individuals, organizations, and Federal, State, and local agencies to comment on the evaluated alternatives and associated social, economic, or environmental impacts related to the alternatives.

Dated on: October 5, 2005.
Robert M. Callan,
Division Administrator, Federal Highway Administration, Atlanta, Georgia.

[FR Doc. 05-20385 Filed 10-11-05; 8:45 am]

BILLING CODE 4910-22-M